CONSUMER PRODUCT SAFETY COMMISSION

16 CFR Part 1130

Requirements for Consumer Registration of Durable Infant or Toddler Products

AGENCY: Consumer Product Safety Commission.

ACTION: Final rule.

SUMMARY: In accordance with the Consumer Product Safety Improvement Act of 2008 (“CPSIA”), the Consumer Product Safety Commission (“Commission,” “CPSC,” or “we”) issued a final consumer product safety rule requiring manufacturers of durable infant or toddler products to establish a consumer registration program. The Commission is amending that rule to clarify and correct some of its requirements.

DATES: The rule is effective February 18, 2013.

FOR FURTHER INFORMATION CONTACT: Keysha Watson, Office of Compliance and Field Operations, U.S. Consumer Product Safety Commission, 4330 East-West Highway, Bethesda, MD 20814; telephone (301) 504-6820; kwatson@cpsc.gov.

SUPPLEMENTARY INFORMATION:

A. Background

On December 29, 2009, we published a final rule requiring manufacturers of durable infant or toddler products to: (1) Provide with each product a postage-paid consumer registration form; (2) keep records of consumers who register such products with the manufacturer; and (3) permanently place the manufacturer's name and contact information, model name and number, and the date of manufacture on each such product. 74 FR 68668. The rule specified formatting and text requirements for the registration forms. Subsequently, we published a correction notice on February 22, 2010. 75 FR 7550. Since December 29, 2010, registration forms have been required for all durable infant or toddler products covered by the rule.

On August 8, 2011, we published a notice of proposed rulemaking to amend the rule in order to clarify or correct certain aspects of the rule. 76 FR 48053. Through this document, we are finalizing the amendment.

We note that, although manufacturers of durable infant or toddler products must comply with the registration requirements, they are not required to have a third party testing laboratory “test” their product's compliance with the registration requirements.

B. Statutory Provisions

The CPSIA directed us to promulgate a final consumer product safety rule requiring manufacturers of durable infant or toddler products to establish and maintain consumer registration programs for such products. Section 104(d) of the CPSIA specified numerous requirements for the manufacturer's registration programs and for the Commission's rule. The rule we published on December 29, 2009 (74 FR 68668) carried out that statutory direction.

C. Response to Comments on the Proposed Rule

We received three comments on the proposed amendment that we had published on August 8, 2011. 76 FR 48053. These three comments raised four issues. One comment was from a consumer who generally supported the proposed amendment; the remaining two comments addressed particular aspects of the proposed amendment. We describe and respond to the comments in section C of this document and describe the final rule in section D. To make it easier to identify the comments and our responses, the word “Comment,” in parentheses, will appear before the comment's description, and the word “Response,” in parentheses, will appear before our response. We also have numbered each comment issue to help distinguish between different issues. The number assigned to each comment issue is purely for organizational purposes and does not signify the comment's value or importance, or the order in which it was received.

(Comment 1): As noted, one comment was from a consumer who generally supported the proposed amendment.

(Response 1): We agree that the changes will clarify the registration rule requirements.

(Comment 2): Another comment also supported the amendment, but requested that “if a third party is used for collecting the registration cards, then the manufacturer should be allowed to put the third party vendor or a `brand name' in lieu of a manufacturer's name.” The commenter explained that “[S]ometimes the manufacturer or importer's name may have little meaning to consumers who may be more inclined to fill out a registration card with a reputable processor they believe will be more likely to adhere to confidential treatment of submitted information or by identification of a product description with “Brand Name” that they more readily recognize than an unknown legal entity that is the manufacturer of the product.”

(Response 2): We proposed to amend the rule to state that if a manufacturer uses a third party to process the registration cards, the third party's name could be included as “in care of” (“c/o”) as part of the address on the form. The third party processor's name would be in addition to the manufacturer's name. Allowing a brand name to replace the manufacturer's name entirely, we believe, could confuse consumers and make it more difficult for consumers to report a problem with the product. Moreover, section 104(d)(2)(D) of the CPSIA requires that the manufacturer's name be on the registration form. However, we do agree that a consumer may be more likely to submit a registration card with a brand name that he or she is familiar with. For these reasons, we accept this suggestion in part. A manufacturer may list the brand name in addition to the manufacturer's name on the bottom front and the top back of the form, with the brand owner's permission.

(Comment 3): A third comment suggested that we allow Quick Response (“QR”) codes on registration cards. The comment explained that QR codes “are a type of matrix barcode that allow[s] storage of information, including links that direct consumers to a Web site when read with a readily available QR reader on a smart phone or other device.”

(Response 3): We agree that QR codes and other barcode technologies that allow consumers to use a smart phone or other device to reach a registration page may facilitate product registration; therefore, we have added paragraph (e) (Optional Barcode) to section 1130.6. Manufacturers who use these technologies must comply with all the requirements of this part 1130, including those in section 1130.7 and the restriction that the manufacturer shall not use or disseminate the consumer registration information for any purpose other than notifying the consumer of a safety alert or recall.

(Comment 4): One comment agreed with the proposed 12-month effective date, stating that it “is a reasonable time frame for all manufacturers to deplete their current inventory of registration cards.”

(Response 4): We agree with the comment and are finalizing the proposed effective date.

D. The Clarifications and Corrections in the Final Rule

1. Simplifying the Provisions for the Format and Text of Registration Forms (§ 1130.6)

As originally published, § 1130.6 specifies requirements for the format of registration forms, and § 1130.7 specifies the requirements for the text of registration forms. In the preamble to the proposal, we stated that we believe explaining the requirements in this way may be confusing. 76 FR 48053-54. Therefore, we proposed eliminating this framework and collapsing the requirements from §§ 1130.6 and 1130.7 into one section and clarifying them. Id. We proposed describing the registration form more clearly, moving logically from the front top of the form to the front bottom of the form, to the back top of the form, and ending with the back bottom of the form. We proposed the following corresponding changes: combining the existing §§ 1130.6 and 1130.7 into a revised § 1130.6; renumbering existing §§ 1130.8 and 1130.9 as §§ 1130.7 and 1130.8, respectively; and changing references to §§ 1130.6 through 1130.9 (such as § 1130.3(a)(2), which refers to § 1130.9) to reflect the renumbered sections. Id.

We did not receive any negative comments on proposed § 1130.6 and the proposed corresponding references, and so we are finalizing them without change.

2. Clarifying the Required Font Size (§ 1130.6(b)(2))

As originally published, § 1130.6(c) requires that registration forms use 12-point and 10-point type. Manufacturers and testing labs reported confusion concerning the physical size required for the type. The dictionary defines a “point” as 1/72 of an inch. However, according to font charts, font sizes used in printing do not follow this formula and are actually smaller than this measurement.

We proposed specifying the physical measurement of the type, rather than referring to “point.” For example, instead of requiring “12-point” type, we proposed stating in § 1130.6(b)(2) that “0.12-inch (3.0 mm) type” is required.

We did not receive any negative comments on proposed § 1130.6(b)(2) and are finalizing it without change.

3. Changes To Clarify That Consumers Should Return the Bottom Part of the Form Only (§ 1130.6(c)(1) and (d)(1))

Section 1130.6(a) of the rule requires firms to provide a form at least the size of two standard postcards, connected together by a perforated line, so that the two portions can be separated. The consumer retains the top portion, which contains a statement of the purpose of the card and the manufacturer's contact information. According to several manufacturers, consumers have been confused about what they need to return to the manufacturer, and some consumers have been sending in the entire form or the top portion of the form only.

As originally published, § 1130.7(b) requires that the back of the top portion of the form state the manufacturer's name and contact information (a U.S. mailing address, a telephone number, toll-free, if available), among other things. The example shown in Figure 1 of the rule shows this information to be center justified, which makes this look like a mailing address.

We proposed amending § 1130.6(d)(1)(i) to specify that the manufacturer's name and contact information on the top portion of the form is to be stated in sentence format and appear underneath the heading: “Manufacturer's Contact Information.” In Figure 2, we proposed that the order of the manufacturer's contact information and the model name, model number, and manufacture date would be reversed from the order in the original Figure 2. This places the manufacturer's contact information on top and decreases the likelihood that a consumer would return the top part of the form.

In addition, we proposed adding a new provision in § 1130.6(d)(1)(ii), requiring that just above the perforation line, each form must state in capital letters: “KEEP THIS TOP PART FOR YOUR RECORDS. FILL OUT AND RETURN BOTTOM PART.”

Finally, we proposed revising the wording in the purpose statement to clarify that consumers should mail the bottom part of the form. As originally published, § 1130.7(a) and Figure 1 stated: “please complete and mail this card.” We proposed that § 1130.6(c)(1) and Figure 1 state: “please complete and mail the bottom part of this card.”

As discussed in section C of this preamble, we received a comment asking us to allow the brand name in lieu of the manufacturer's name on registration cards. We are accepting this suggestion in part and have revised § 1130.6(d)(1)(i) to allow the manufacturer to list the brand name in addition to the manufacturer's name.

4. Omitting Manufacturer's Name on the Back Bottom of the Form (§ 1130.6(d)(2))

As originally published, (and then corrected in February 2010), § 1130.7(d) requires that the bottom back portion of the form state the manufacturer's name with the product information. However, the illustration in Figure 2 of the rule does not show the manufacturer's name in this location. Some manufacturers pointed out that there is limited space on this part of the form, and they suggested that omitting the manufacturer's name would allow more space for the consumer's information.

We proposed (in § 1130.6(d)(2)) omitting the requirement that the manufacturer's name be stated along with the product information at the back bottom portion of the form. We stated in the preamble to the proposed rule that we will allow a manufacturer to include its name on the back portion of the card if it wants to do so.

We received no negative comments on proposed § 1130.6(d)(2) and are finalizing it without change.

5. Identifying a Third Party That Is Processing the Forms (§ 1130.6(c)(2))

As originally published, § 1130.6(b)(3) requires that the registration form be pre-addressed “with the manufacturer's name and mailing address where registration information is to be collected.” As discussed in the preamble to the final rule (74 FR at 68670), a manufacturer is allowed to contract with a third party who would be responsible for maintaining the registration information. Some manufacturers asked whether the third party's name could appear in the mailing information on the form in these circumstances.

We proposed stating in § 1130.6(c)(2) that, if a manufacturer uses a third party to process the registration forms, the third party's name may be included as a “c/o” on the form. As discussed in section C of this preamble, we received a comment asking us to allow a “brand name” in lieu of the manufacturer's name. In response to the comment, we have revised § 1130.6(c)(2) to allow the manufacturer to add a brand name on the bottom front of the registration form.

6. Clarifying the Location Where Registration Information Is To Be Maintained (§ 1130.8(d))

Several manufacturers asked whether the consumer registration information they receive must be maintained at a location in the United States. As originally published, the rule does not specifically address this issue.

In the preamble to the proposed rule, we stated that because so much data and information are kept electronically and can be retrieved quickly, we do not believe that it is necessary to require that registration information be maintained in the United States. 76 FR 48054. However, manufacturers must be able to access the information when requested. Therefore, we proposed stating in § 1130.8(d) that registration records shall be made available within 24 hours of a request by the CPSC.

We received no negative comments on this provision and are finalizing it without change.

7. Correcting Text Requirement for Purpose Statement To Match Figure 1 (§ 1130.6(c)(1))

As originally published, § 1130.7(a) provides, in part, that: “The front top portion of each form shall state `PRODUCT REGISTRATION FOR SAFETY ALERT OR RECALL. We will use the information provided on this card to contact you only if there is a safety alert or recall for this product. We will not sell, rent, or share your personal information. To register your product, please complete and mail this card or visit our online registration at http://www.Web sitename.com.' ” In the preamble to the proposed rule, 76 FR 48054, we noted that there are two discrepancies between the wording of the text and the illustration in Figure 1.

To make the text and Figure 1 consistent, we proposed making two changes to the text in § 1130.6(c)(1): Adding the word “ONLY” at the end of the first sentence, and deleting “http//from the Web site name.

We received no comment on this provision and are finalizing it without change.

8. Barcodes (§ 1130.6(e))

As discussed in section C of this preamble, we received a comment asking us to allow QR codes on registration forms. We are adding a new paragraph (e) to § 1130.6 to give manufacturers the option of including a barcode, or other machine readable data, that would provide a link for the consumer to register the product. If manufacturers use this technology they must comply with all the requirements of the rule.

E. Effective Date

We stated in the preamble to the proposed rule, 76 FR 48055, that we recognize that manufacturers may have an existing inventory of registration forms and that the changes to the forms are minor and would not affect safety. We proposed that the amendment would take effect 12 months after publication of a final rule. We also stated that until the amendment takes effect, we would consider registration forms to be in compliance that meet either the existing rule or the amendment. Id. We received one comment in favor of the proposed effective date. Therefore, the final rule provides a 12-month effective date.

F. Regulatory Flexibility Analysis or Certification

The Regulatory Flexibility Act (“RFA”) generally requires that agencies review proposed rules for their potential economic impact on small entities, including small businesses. However, as we noted in the preamble to the proposed rule, id., section 104(d)(1) of the CPSIA removes this requirement for the rule implementing the CPSIA's consumer registration provision. Consequently, no regulatory flexibility analysis or certification is necessary for this proposed amendment clarifying and correcting the consumer registration rule. Moreover, the changes are minor and will not alter the impact that the registration rule has on small entities.

G. Paperwork Reduction Act

Section 104(d)(1) of the CPSIA also excludes the consumer registration rule from requirements of the Paperwork Reduction Act, 44 U.S.C. sections 3501 through 3520. Consequently, no Paperwork Reduction Act analysis is necessary for this amendment clarifying and correcting the consumer registration rule. Moreover, the changes are minor and will not alter any collection of information required under the registration rule.

H. Environmental Considerations

Our regulations provide a categorical exemption for our rules from any requirement to prepare an environmental assessment or an environmental impact statement as they “have little or no potential for affecting the human environment.” 16 CFR 1021.5(c)(2). This amendment falls within the categorical exemption.

List of Subjects in 16 CFR 1130

Administrative practice and procedure, Business and industry, Consumer protection, Reporting and recordkeeping requirements.

Accordingly, we amend 16 CFR part 1130 as follows:

PART 1130—REQUIREMENTS FOR CONSUMER REGISTRATION OF DURABLE INFANT OR TODDLER PRODUCTS

1. The authority citation for part 1130 continues to read as follows:

Authority: 15 U.S.C. 2056a, 2065(b).

§ 1130.3 [Amended]

2. In § 1130.3(a)(2), remove “§ 1130.9” and add in its place “§ 1130.8”.

§ 1130.5 [Amended]

3. Section 1130.5 is amended as follows:

a. In paragraph (a), remove “and 1130.7”; and

b. In paragraph (f), remove “1130.7(a)” and add, in its place “1130.6(c)(1)”.

4. Revise § 1130.6 to read as follows:

§ 1130.6 Requirements for format and text of registration forms.

(a) Size of form. The form shall be at least the size of two standard post cards, connected with perforation for later separation, so that each of the two portions is at least 3½ inches high x 5 inches wide x 0.007 inches thick.

(b) Layout of form. (1) General. The form shall consist of four parts: top and bottom, divided by perforations for easy separation, and front and back.

(2) Font size and typeface. The registration form shall use bold black typeface. The size of the type shall be at least 0.12 in (3.0 mm) for the purpose statement required in paragraph (c)(1) of this section, and no less than 0.10 in (2.5 mm) for the other information in the registration form. The title of the purpose statement and the retention statement required in paragraph (d)(2) of this section shall be in all capitals. All other information shall be in capital and lowercase type.

(c) Front of form. (1) Top front of form: Purpose statement. The top portion of the front of each form shall state: “PRODUCT REGISTRATION FOR SAFETY ALERT OR RECALL ONLY. We will use the information provided on this card to contact you only if there is a safety alert or recall for this product. We will not sell, rent, or share your personal information. To register your product, please complete and mail the bottom part of this card, or visit our online registration at: www.Web sitename.com.” Manufacturers that do not have a Web site may provide an email address and state at the end of the purpose statement: “To register your product, please complete and mail the bottom part of this card, or email your contact information, the model name and number, and date of manufacture of the product, as provided on this card, to: name@firmname.com.”

(2) Bottom front of form: Manufacturer's mailing address. The bottom portion of the front of each form shall be pre-addressed and postage-paid with the manufacturer's name and mailing address where registration information is to be collected. A manufacturer may list a brand name in addition to the manufacturer's name. If a manufacturer uses a third party to process registration forms, the third party's name may be included as a “c/o” (“in care of”) in the address on the form.

(d) Back of the form. (1) Top back of form. (i) Product information and manufacturer's identification. The top portion of the back of each form shall state: “Manufacturer's Contact Information” and provide the manufacturer's name and contact information (a U.S. mailing address displayed in sentence format, Web site address, a telephone number, toll-free, if available); product model name and number (or other identifier as described in § 1130.4(a)(1) and (2)); and manufacture date of the product. A rectangular box shall be placed around the model name, model number, and manufacture date. A manufacturer may list the brand name in addition to the manufacturer's name.

(ii) Retention statement. On the back of each form, just above the perforation line, the form shall state: “KEEP THIS TOP PART FOR YOUR RECORDS. FILL OUT AND RETURN BOTTOM PART.”

(2) Bottom back of form. (i) Consumer information. The bottom portion of the back of each form shall have blocks for the consumer to provide his/her name, address, telephone number, and email address. These blocks shall be 5 mm wide and 7 mm high, with as many blocks as possible to fill the width of the card allowing for normal printing practices.

(ii) Product information. The following product information shall be provided on the bottom portion of the back of each form below the blocks for consumer information printed directly on the form or on a pre-printed label that is applied to the form: the model name and number (or other identifier as described in § 1130.4(a)(1) and (2)), and the date of manufacture of the product. A rectangular box shall be placed around the model name, model number, and manufacture date. A manufacturer may include its name on the bottom portion of the back of the form if they choose to do so.

§ 1130.7 [Removed]

5. Remove § 1130.7.

§§ 1130.8 and 1130.9 [Redesignated as §§ 1130.7 and 1130.8]

6. Redesignate §§ 1130.8 and 1130.9 as §§ 1130.7 and 1130.8, respectively.

7. In newly redesignated § 1130.8, add paragraphs (d) and (e) to read as follows:

§ 1130.8 Requirements for Web site registration or alternative email registration.

* * * * *

(d) Records required under this section shall be made available within 24 hours, upon the request of any officer, employee, or agent acting on behalf of the U.S. Consumer Product Safety Commission.

(e) Optional barcode. (1) A manufacturer may include a barcode, or other machine readable data, that when scanned would provide a direct link for the consumer to register the product.

(2) Such a link must comply with all the requirements of this part 1130, including those in § 1130.7 and the restriction that the manufacturer shall not use or disseminate the consumer registration information for any purpose other than notifying the consumer of a safety alert or recall.

8. Revise Figure 1 to Part 1130—Front of Registration Form to read as follows:

BILLING CODE 6355-01-P

9. Revise Figure 2 to Part 1130—Back of Registration Form to read as follows:

Dated: February 13, 2012.
Todd A. Stevenson,
Secretary, U.S. Consumer Product Safety Commission.

[FR Doc. 2012-3712 Filed 2-16-12; 8:45 am]

BILLING CODE 6355-01-C